SMALL BUSINESS ADMINISTRATION

Public Federal Regulatory Enforcement Fairness Roundtable; Region I Regulatory Fairness Board

The Small Business Administration Region I Regulatory Fairness Board and the SBA Office of the National Ombudsman will hold a Public Roundtable on Wednesday, September 24, 2003 at 9:30 a.m. at The Legislative Office Building, North State Street, Room 201-203, Concord, NH 03301, to provide small business owners and representatives of trade associations with an opportunity to share information concerning the federal regulatory enforcement and compliance environment.

Anyone wishing to attend or to make a presentation must contact William Phillips in writing or by fax, in order to be put on the agenda. William Phillips, District Director, SBA New Hampshire District Office, 143 North Main Street, Suite 202, Concord, NH 03301, phone (603) 225-1400 Ext. 115, fax (603) 225-1409, e-mail: william.phillips@sba.gov.

For more information, see our Web site at www.sba.gov/ombudsman.

Dated: September 2, 2003.
Michael L. Barrera,
National Ombudsman.

[FR Doc. 03-23080 Filed 9-9-03; 8:45 am]

BILLING CODE 8025-01-P